DEPARTMENT OF HEALTH AND HUMAN SERVICES

National Institutes of Health

National Institute of Biomedical Imaging and Bioengineering; Notice of Proposed Reorganization

AGENCY: National Institutes of Health, HHS.

ACTION: Notice.

SUMMARY: The National Institute of Biomedical Imaging and Bioengineering (NIBIB) will host a public hearing to enable public discussion of the Institute's proposal to establish the Center for Biomedical Imaging and Technology Acceleration (βETA). The proposed reorganization aims to accelerate the development, validation, and dissemination of high-impact biomedical technologies to address urgent national and global health needs.

DATES: The public hearing will take place on June 29, 2022, at 2 p.m. using NIBIB's social media accounts. Any interested party may also file written comments by sending an email to NIBIBorgchange@nih.gov prior or during the scheduled public hearing. The statement should include the individual's name, and when applicable, professional affiliation.

ADDRESSES: The following email address has been established for comments on the reorganization: NIBIBorgchange@nih.gov. The social media platforms that will be used and monitored during this hearing are:

• Twitter: @NIBIBgov

• Facebook: https://www.facebook.com/nibibgov/

FOR FURTHER INFORMATION CONTACT: Eva Kakoza, Management Analyst, National Institute of Biomedical Imaging and Bioengineering, NIH, (301) 402-4584, NIBIBorgchange@nih.gov.

SUPPLEMENTARY INFORMATION: Pursuant to the NIH Reform Act of 2006 (42 U.S.C. Sec.281 (d)(4)), NIBIB will have a public hearing to discuss the proposed reorganization plans. This announcement and the public forum serve as that notice. More information can be found at https://www.nibib.nih.gov/about-nibib/proposed-org-changes.

Jason M. Ford,
Executive Officer, National Institute of Biomedical Imaging and Biomedical Engineering, National Institutes of Health.

[FR Doc. 2022-12073 Filed 6-3-22; 8:45 am]

BILLING CODE 4140-01-P